DEPARTMENT OF STATE

[Public Notice 3996]

Bureau of Educational and Cultural Affairs Request for Grant Proposals: North African Educational Partnerships Program (Algeria and Tunisia)

SUMMARY: The Office of Global Educational Programs of the Bureau of Educational and Cultural Affairs announces an open competition for an assistance award program to support the development of programs of instruction and faculty training at universities in Algeria and Tunisia in business management, public administration, information technology, computer science, or other fields with significant potential to support the modernization of the Algerian or Tunisian economies. Accredited, post-secondary educational institutions meeting the provisions described in Internal Revenue Code section 26 U.S.C. 501(c)(3) may apply to pursue institutional or departmental objectives in partnership with one or more Algerian or Tunisian institutions with support from the North African Educational Partnerships Program.

Proposals may include more than one partner institution within one of the eligible countries, but may not include more than one country. The means for achieving the objectives of the applicant and its partner(s) may include mentoring, teaching, consultation, research, distance education, internship training, and professional outreach to public sector managers or private sector entrepreneurs.

Program Information

Overview and Project Objectives: The program is designed to assist North African universities to develop modern curricula and programs of instruction in business management, public administration, and related fields, to facilitate the development of business activity; and to improve the quality, efficiency, and integrity of management in the private and public sectors in the participating countries. Proposals emphasizing practical strategies to assist the North African faculty and administrators to develop new curricula, teaching methodologies and programs are encouraged.

Pending availability, funds will be awarded for a period of two to three years to assist with the costs of exchanges, of providing educational materials, of increasing library holdings, and of improving Internet connections.

The project should pursue these objectives through a strategy that coordinates the participation of junior and senior level faculty, administrators, or graduate students in appropriate combinations of teaching, mentoring, internships, in-service training, and outreach, in exchange visits ranging from one week to an academic year. Visits of one semester or more for participants from Algeria and Tunisia are strongly encouraged and program activities must be tied to the goals and objectives of the project.

Proposals may also include English language training for selected participants whose existing English skills need to be strengthened or refreshed.

U.S. Institution and Participant Eligibility: The lead institution and grant recipient must be an accredited U.S. college or university. Applications from community colleges, institutions serving significant minority populations, undergraduate liberal arts colleges, comprehensive universities, research universities, and combinations of these types of institutions are eligible. The lead U.S. organization in a consortium or other combination of cooperating institutions is responsible for submitting the application. Each application must document the lead organization's authority to represent all U.S. cooperating partners. Secondary U.S. partners may include governmental or non-governmental organizations at the federal, state, or local levels as well as non-profit service, community and professional organizations.

With the exception of translators and outside evaluators, participation is limited to teachers, advanced graduate students, and administrators from the participating U.S. institution(s). All participants who are funded by the Bureau under the program budget and who represent the U.S. institution must be U.S. citizens. Advanced graduate students at the U.S. institution(s) are eligible for support from the project as visiting instructors or researchers at a foreign partner institution.

North African Institution and Participant Eligibility

In Algeria and Tunisia, participation is open to recognized institutions of post-secondary education, including state-supported and independent universities, research institutes, relevant governmental organizations, and private non-profit organizations with project-related educational objectives. Except for translators and evaluators, participation is limited to teachers, administrators, researchers, or advanced students from the participating foreign institution(s). Any advanced student participant must either have teaching or research responsibilities or be preparing for such responsibilities. Foreign participants must be both qualified to receive U.S. J-1 visas and willing to travel to the U.S. under the provisions of a J-1 visa during the exchange visits funded by this Program. Foreign participants may not be U.S. citizens.

Budget Guidelines: The Bureau anticipates awarding two or more grants per country, in amounts not to exceed $310,000 each, under this grant competition. Bureau grant guidelines require that organizations with less than four years experience in conducting international exchanges be limited to $60,000. Therefore, organizations with less than four years of experience in conducting international exchanges are ineligible to apply under this competition. Budget and budget notes should carefully justify the amounts requested. There must be a summary budget as well as a breakdown reflecting the program and administrative budgets including unit costs. While there is no rigid ratio of administrative to program costs, priority will be given to proposals whose administrative costs are no more than thirty per cent of the total requested from the Bureau. Cost sharing will be considered an important indicator of institutional commitment. Please refer to the POGI for complete budget guidelines and formatting instructions.

Announcement Title and Number: All correspondence with the Bureau concerning this RFGP should reference the above title and number ECA/A/S/U-02-16.

FOR FURTHER INFORMATION, CONTACT: The Office of Global Educational Programs, ECA/A/S/U, Room 349, U.S. Department of State, 301 4th Street, SW., Washington, DC 20547, telephone (202) 619-5289, fax (202) 401-1433, fjenning@pd.state.gov and hiemstra@pd.state.gov to request a Solicitation Package. The Solicitation Package contains detailed award criteria, required application forms, specific budget instructions, and standard guidelines for proposal preparation.

Please read the complete Federal Register announcement before sending inquiries or submitting proposals. Once the RFGP deadline has passed, Bureau staff may not discuss this competition with applicants until the proposal review process has been completed.

To Download a Solicitation Package via Internet

The entire Solicitation Package may be downloaded from the Bureau's website at http://exchanges.state.gov/education/RFGPs. Please read all information before downloading.

Deadline for Proposals

All proposal copies must be received at the Bureau of Educational and Cultural Affairs by 5 p.m. Washington, DC time on June 7, 2002. Faxed documents will not be accepted at any time. Documents postmarked the due date but received on a later date will not be accepted. Each applicant must ensure that the proposals are received by the above deadline.

Applicants must follow all instructions in the Solicitation Package. The original and 10 copies of the application should be sent to: U.S. Department of State, SA-44, Bureau of Educational and Cultural Affairs, Ref.: ECA/A/S/U-16-02, Program Management, ECA/EX/PM, Room 534, 301 4th Street, SW., Washington, DC 20547.

Applicants must also submit the “Executive Summary” and “Proposal Narrative” sections of the proposal on a 3.5” diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.”

Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package.

The program office and the Public Affairs Section of the U.S. Embassy in Algiers and Tunis will review eligible proposals. Eligible proposals will be subject to compliance with Federal and Bureau regulations and guidelines and forwarded to Bureau grant panels for advisory review.

Proposals may also be reviewed by the Office of the Legal Adviser or by other Department elements. Final funding decisions are at the discretion of the Department of State's Assistant Secretary for Educational and Cultural Affairs. Final technical authority for assistance grant awards resides with the Bureau's Grants Officer.

Review Criteria

All reviewers will use the criteria below to reach funding recommendations and decisions. Technically eligible applications will be reviewed competitively according to these criteria, which are not rank-ordered or weighted.

(1) Broad and Enduring Significance of Institutional Objectives: Project objectives should have significant and ongoing results for the partner North African institutions and for their surrounding societies or communities by providing a deepened understanding of critical issues in one or more of the eligible fields. Project objectives should relate clearly to institutional and societal needs.

(2) Creativity and Feasibility of Strategy to Achieve Project Objectives: Strategies to achieve project objectives should be feasible and realistic within the projected budget and timeframe. These strategies should utilize and reinforce exchange activities creatively to ensure an efficient use of program resources. Relevant factors include: the availability of a sufficient number of faculty and/or administrators willing and able to participate in project activities, and faculty and/or administrators with Arabic or French language skills.

(3) Institutional Commitment to Cooperation: Proposals should demonstrate significant understanding by each institution of its own needs and capacities and of the needs and capacities of its proposed partner(s), together with a strong commitment by the partner institutions, during and after the period of grant activity, to cooperate with one another in the mutual pursuit of institutional objectives. Proposals should describe projected benefits to the institutions involved as well as to wider communities of educators and practitioners in Algeria or Tunisia.

(4) Project Evaluation: Proposals should outline a methodology for determining the degree to which a project meets its objectives, both while the project is underway and at its conclusion. The final project evaluation should include an external component and should provide observations about the project's influence within the participating institutions as well as their surrounding communities or societies, and observations about anticipated long-term impact on the Algerian or Tunisian economy.

(5) Cost-effectiveness: Administrative and program costs should be reasonable and appropriate with cost sharing provided by all participating institutions within the context of their respective capacities. We view cost sharing as a reflection of institutional commitment to the project. While there is no rigid ratio of administrative to program costs, priority will be given to proposals whose administrative costs are less than thirty per cent of the total requested from ECA.

(6) Support of Diversity: Proposals should demonstrate substantive support of the Bureau's policy on diversity by explaining how issues of diversity are included in project objectives for all institutional partners. Issues resulting from differences of race, ethnicity, gender, religion, geography, socio-economic status, or physical challenge should be addressed during project implementation. In addition, project participants and administrators should reflect the diversity within the societies which they represent (see the section of this document on “Diversity, Freedom, and Democracy Guidelines”). Proposals should also discuss how the various institutional partners approach diversity issues in their respective communities or societies.

Authority: Overall grant making authority for this program is contained in the Mutual Educational and Cultural Exchange Act of 1961, Public Law 87-256, as amended, also known as the Fulbright-Hays Act. The purpose of the Act is “to enable the Government of the United States to increase mutual understanding between the people of the United States and the people of other countries...; to strengthen the ties which unite us with other nations by demonstrating the educational and cultural interests, developments, and achievements of the people of the United States and other nations...and thus to assist in the development of friendly, sympathetic and peaceful relations between the United States and the other countries of the world.” The funding authority for the program cited above is provided through the U.S. North African Economic Partnership.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 16, 2002.
Rick A. Ruth,
Principal Deputy Assistant Secretary, Bureau of Educational and Cultural Affairs, Department of State.

[FR Doc. 02-10186 Filed 4-24-02; 8:45 am]

BILLING CODE 4710-05-P